DEPARTMENT OF COMMERCE

International Trade Administration

[A-570-084, C-570-085]

Certain Quartz Surface Products From the People's Republic of China: Expansion of the Period of Review and Supplemental Opportunity To Request Administrative Review

AGENCY: Enforcement and Compliance, International Trade Administration, Department of Commerce.

SUMMARY: The U.S. Department of Commerce (Commerce) is expanding the period of review (POR) for the current antidumping duty (AD) and countervailing duty (CVD) administrative reviews of certain quartz surface products (quartz surface products) from the People's Republic of China (China) to include entries suspended by the final scope ruling on Malaysian processed quartz slab prior to the current POR of the instant reviews. Additionally, Commerce is providing a supplemental opportunity for interested parties to request a review of certain companies currently ineligible for the scope certification process with suspended entries during the expanded POR solely for the purposes of examining their certification status.

DATES: Supplemental requests for review must be submitted no later than March 11, 2024.

FOR FURTHER INFORMATION CONTACT: Ajay K. Menon, AD/CVD Operations, Office IX, Enforcement and Compliance, International Trade Administration, U.S. Department of Commerce, 1401 Constitution Avenue NW, Washington, DC 20230, telephone: (202) 482-0208.

SUPPLEMENTARY INFORMATION:

Background

On October 21, 2022, Commerce published in the Federal Register the final scope ruling on Malaysian processed quartz slab, finding that imports of quartz slab manufactured in China and processed in Malaysia are covered by the AD and CVD orders on quartz surface products from China.¹ As part of this determination, Commerce implemented a certification requirement for all imports of quartz surface products from Malaysia, effective November 4, 2021, and also directed U.S. Customs and Border Protection (CBP) to suspend liquidation and require cash deposit for entries subject to the scope inquiry retroactive to this same date.²

¹ See Certain Quartz Surface Products from the People's Republic of China: Final Scope Ruling on Malaysian Processed Quartz Slab and Recission of the Circumvention Inquiry, 87 FR 64009, 64010 (October 21, 2022) (Malaysia Processed Final Scope Ruling).

² Id.

On July 3, 2023, Commerce notified interested parties of the opportunity to request administrative reviews of the AD and CVD orders on quartz surface products from China for the periods: (1) July 1, 2022, through June 30, 2023 for the AD administrative review; and (2) January 1, 2022, through December 31, 2022 for the CVD administrative review.³ On September 11, 2023, Commerce initiated administrative reviews of the AD and CVD orders on quartz surface products from China for these periods.⁴

³ See Antidumping or Countervailing Duty Order, Finding, or Suspended Investigation; Opportunity To Request Administrative Review and Join Annual Inquiry Service List, 88 FR 42693 (July 3, 2023).

⁴ See Initiation of Antidumping and Countervailing Duty Administrative Reviews, 88 FR 62322 (September 11, 2023) (Initiation Notice).

Expanding the PORs of the AD and CVD Administrative Reviews

As noted above, in the Malaysia Processed Final Scope Ruling published on October 21, 2022, Commerce imposed a certification requirement and also directed CBP to suspend liquidation and require cash deposit for entries subject to the inquiry effective November 4, 2021.⁵ Therefore, consistent with 19 CFR 351.213(e)(1)-(2),⁶ to ensure that Commerce is examining all suspended entries which were not previously under review, we are expanding the ongoing AD and CVD administrative reviews to cover the following periods: (1) November 1, 2021, through June 30, 2023 for the AD administrative review; and (2) November 1, 2021, through December 31, 2022 for the CVD administrative review.

⁵ See Malaysian Processed Final Scope Ruling, 87 FR at 64010.

⁶ See 19 CFR 351.213(e)(1)-(2), which provides that “{w}hile AD/CVD reviews normally are limited to 12 months or the calendar year, Commerce has the discretion to determine the period under review.”

Supplemental Opportunity To Request Administrative Review

In the Malaysia Processed Final Scope Ruling, we determined that the following companies were ineligible from participating in the scope certification process because they did not fully participate in the proceeding: Bada Industries SDN BHD (Bada Industries); Ever Stone World SDN BHD (Ever Stone); Karina Stone; MSI Building Supply SDN (MSI); Principal Safwa (M) SDN (Principal Safwa); Resstone Manufacturing (Resstone); SCLM Services SDN BHD (SCLM); Unique Stone SDN BHD (Unique Stone); and Universal Quartz. We are conducting the ongoing AD and CVD administrative reviews to reconsider the eligibility of Bada Industries, Karina Stone, and Universal Quartz from the certification process.⁷

⁷ See Initiation Notice, 88 FR 62322.

With this notice, in accordance with 19 CFR 351.213(b), we are affording interested parties, as defined by section 771(9) of the Tariff Act of 1930, as amended, with a supplemental opportunity to request in writing that the Secretary conduct an administrative review to review the certification eligibility of any of the following companies: Ever Stone; MSI; Principal Safwa; Resstone; SCLM; and Unique Stone. For both the AD and CVD administrative reviews, the requestor must specify for which of these companies it is requesting a review.

The deadline for parties to file a request for review of the certification status of these entities is not later than 14 days from the date of publication of this notice. If interested parties submit a request for review of any of these companies, Commerce's review will be limited to the company's eligibility to participate in the certification process. Moreover, Commerce will only include those companies in the AD and CVD administrative reviews which have suspended entries of subject merchandise during the expanded PORs (i.e., November 1, 2021, through June 30, 2023 for the AD administrative review; and November 1, 2021, through December 31, 2022 for the CVD administrative review).

All review requests must be filed electronically in Enforcement and Compliance's Antidumping and Countervailing Duty Centralized Electronic Service System (ACCESS) at https://access.trade.gov.⁸ Further, in accordance with 19 CFR 351.303(f)(l)(i), a copy of each request must be served on the petitioner and each exporter or producer specified in the request. Note that Commerce has amended certain of its requirements pertaining to the service of documents in 19 CFR 351.303(f).⁹

⁸ See Antidumping and Countervailing Duty Proceedings: Electronic Filing Procedures; Administrative Protective Order Procedures, 76 FR 39263 (July 6, 2011).

⁹ See Administrative Protective Order, Service, and Other Procedures in Antidumping and Countervailing Duty Proceedings; Final Rule, 88 FR 67069 (September 29, 2023).

Commerce intends to publish in the Federal Register a supplementary initiation notice for all timely filed review requests which satisfy the requirements noted above.

Continued Suspension of Liquidation

Commerce previously issued instructions to CBP directing the assessment of antidumping or countervailing duties on entries not currently under review at a rate equal to the cash deposit of estimated antidumping or countervailing duties required on those entries at the time of entry, or withdrawal from warehouse, for consumption. In the event that Commerce receives additional review requests for the companies listed above, Commerce intends to amend these instructions to direct CBP to continue to suspend liquidation of any unliquidated entries made by companies subsequently under review until the completion of these administrative reviews.

Dated: February 20, 2024.
James Maeder,
Deputy Assistant Secretary for Antidumping and Countervailing Duty Operations.

[FR Doc. 2024-03857 Filed 2-23-24; 8:45 am]

BILLING CODE 3510-DS-P